DEPARTMENT OF COMMERCE

National Oceanic and Atmospheric Administration

[RTID 0648-XA567]

North Pacific Fishery Management Council; Public Meeting

AGENCY: National Marine Fisheries Service (NMFS), National Oceanic and Atmospheric Administration (NOAA), Commerce.

ACTION: Notice of web conference.

SUMMARY: The North Pacific Fishery Management Council (Council) Bering Sea Fishery Ecosystem Plan Local Knowledge, Traditional Knowledge, and Subsistence Taskforce will be held November 9, 2020 through November 10, 2020.

DATES: The meeting will be held on Monday, November 9, 2020, from 8:30 a.m. to 1 p.m. Alaska Time, and from 8:30 a.m. to 1:30 p.m. on Tuesday, November 10, 2020.

ADDRESSES: The meeting will be a web conference. Join online through the link at https://meetings.npfmc.org/Meeting/Details/1683.

Council address: North Pacific Fishery Management Council, 1007 W 3rd Ave., Anchorage, AK 99501-2252; telephone: (907) 271-2809. Instructions for attending the meeting are given under SUPPLEMENTARY INFORMATION, below.

FOR FURTHER INFORMATION CONTACT: Kate Haapala Council staff; phone; (907) 271-2809 and email: kate.haapala@noaa.gov. For technical support please contact our administrative staff; email: npfmc.admin@noaa.gov.

SUPPLEMENTARY INFORMATION:

Agenda

Monday, November 9, 2020 Through Tuesday, November 10, 2020

The agenda will include (a) introduction and updates from Taskforce members; (b) review updates and discussion on search engine; (c) narrative sources of data; (d) review definition of subsistence for Taskforce; (e) review Norton Sound Red King Crab case study; (f) discussion on protocol development; and (g) other business.

The agenda is subject to change, and the latest version will be posted at https://meetings.npfmc.org/Meeting/Details/1683 prior to the meeting, along with meeting materials.

Connection Information

You can attend the meeting online using a computer, tablet, or smart phone; or by phone only. Connection information will be posted online at: https://meetings.npfmc.org/Meeting/Details/1683.

Public Comment

Public comment letters will be accepted and should be submitted electronically to https://meetings.npfmc.org/Meeting/Details/1683 by 5 p.m. Alaska time on Sunday, November 8, 2020. An opportunity for oral public testimony will also be provided during the meeting.

Authority: 16 U.S.C. 1801 et seq.

Dated: October 16, 2020.
Tracey L. Thompson,
Acting Deputy Director, Office of Sustainable Fisheries, National Marine Fisheries Service.

[FR Doc. 2020-23324 Filed 10-20-20; 8:45 am]

BILLING CODE 3510-22-P